DEPARTMENT OF COMMERCE

National Oceanic and Atmospheric Administration

RIN 0648-XG189

Fisheries of the South Atlantic; Southeast Data, Assessment, and Review (SEDAR); Stock ID Review Workshop for Cobia (Rachycentron canadum)

AGENCY: National Marine Fisheries Service (NMFS), National Oceanic and Atmospheric Administration (NOAA), Commerce.

ACTION: Notice of SEDAR 58 Stock Identification (ID) Review Workshop for Cobia.

SUMMARY: The SEDAR 58 Cobia Stock ID Process will be a multi-step process consisting of a series of workshops and webinars: Stock ID Workshop; Stock ID Review Workshop; Joint Cooperator Technical Review; and Science and Management Leadership Call. See SUPPLEMENTARY INFORMATION.

DATES: The SEDAR 58 Cobia Stock ID Review Workshop will be held on June 5, 2018, from 1:30 p.m. to 6 p.m.; June 6, 2018, from 9 a.m. until 6 p.m.; and June 7, 2018, from 9 a.m. until 1 p.m. The established times may be adjusted as necessary to accommodate the timely completion of discussion relevant to the assessment process. Such adjustments may result in the meeting being extended from, or completed prior to the time established by this notice.

ADDRESSES:

Meeting address: The SEDAR 58 Cobia Stock ID Review Workshop will be held at the Crowne Plaza Charleston Airport, 4831 Tanger Outlet Boulevard, North Charleston, SC 29418; telephone: (843) 744-4422.

SEDAR address: South Atlantic Fishery Management Council, 4055 Faber Place Drive, Suite 201, N Charleston, SC 29405; www.sedarweb.org.

FOR FURTHER INFORMATION CONTACT: Julia Byrd, SEDAR Coordinator, 4055 Faber Place Drive, Suite 201, North Charleston, SC 29405; phone (843) 571-4366; email: julia.byrd@safmc.net.

SUPPLEMENTARY INFORMATION: The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) Data Workshop; (2) Assessment Process utilizing a workshop and/or webinars; and (3) Review Workshop. Cobia Stock ID will be resolved prior to the start of the SEDAR 58 Data Workshop using the multi-step Stock ID Process. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Summary documenting panel opinions regarding the strengths and weaknesses of the stock assessment and input data. Participants for SEDAR Workshops are appointed by the Gulf of Mexico, South Atlantic, and Caribbean Fishery Management Councils and NOAA Fisheries Southeast Regional Office, Highly Migratory Species Management Division, and Southeast Fisheries Science Center. Participants include: Data collectors and database managers; stock assessment scientists, biologists, and researchers; constituency representatives including fishermen, environmentalists, and non-governmental organizations (NGOs); international experts; and staff of Councils, Commissions, and state and federal agencies.

The items of discussion at the Cobia Stock ID Review Workshop are as follows:

1. Review the recommendations of the SEDAR 58 Cobia Stock ID Workshop.

2. Determine whether the stock structure recommended by the SEDAR Stock ID Workshop is reasonable and appropriate to use for the SEDAR 58 assessment unit stock.

3. Prepare a report documenting the Review Panel's findings and recommendations regarding the SEDAR 58 assessment unit stock.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: May 11, 2018.
Tracey L. Thompson,
Acting Deputy Director, Office of Sustainable Fisheries, National Marine Fisheries Service.

[FR Doc. 2018-10448 Filed 5-15-18; 8:45 am]

BILLING CODE 3510-22-P